DEPARTMENT OF COMMERCE

National Oceanic and Atmospheric Administration

Gulf of Mexico Fishery Management Council; Public Meeting

AGENCY: National Marine Fisheries Service (NMFS), National Oceanic and Atmospheric Administration (NOAA), Commerce.

ACTION: Council to convene public meetings.

SUMMARY: The Gulf of Mexico Fishery Management Council will convene a Web based meeting of the ABC Control Rule Working Group.

DATES: The webinar meeting will convene on Thursday, May 24, 2012. The webinar will begin at 9 a.m. and is expected end by 12 noon, Eastern time.

ADDRESSES: The webinar will be accessible via Internet. Please go to the Gulf of Mexico Fishery Management Council's Web site at www.gulfcouncil.org for instructions.

Council address: Gulf of Mexico Fishery Management Council, 2203 N. Lois Avenue, Suite 1100, Tampa, FL 33607.

FOR FURTHER INFORMATION CONTACT: Steven Atran, Population Dynamics Statistician; Gulf of Mexico Fishery Management Council; telephone: (813) 348-1630.

SUPPLEMENTARY INFORMATION: The ABC Control Rule Working Group will meet to review the results of applying the Ralston et al. (2011) method of calculating ABC when the variances used are computed from GOM stocks, to review discussion on linking Tier 3 ABCs to data collection actions, continue reviews and edits to the ABC control rule, and decide what recommendation to carry forward to the Scientific and Statistical Committee for its June 2012 meeting.

Copies of the agenda and other related materials can be obtained by calling (813) 348-1630. Materials will also be available to download from the ABC Control Rule Working Group folder of the Council's FTP site, which is accessible from the Quick Links section of the Council Web site (http://www.gulfcouncil.org).

Although other non-emergency issues not on the agenda may come before the ABC Control Rule Working Group for discussion, in accordance with the Magnuson-Stevens Fishery Conservation and Management Act, those issues may not be the subject of formal action during this meeting. Actions of the Working Group will be restricted to those issues specifically identified in the agenda and any issues arising after publication of this notice that require emergency action under Section 305(c) of the Magnuson-Stevens Fishery Conservation and Management Act, provided the public has been notified of the Council's intent to take action to address the emergency.

Special Accommodations

This webinars are accessible to people with disabilities. For assistance with any of our webinars contact Kathy Pereira at the Council (see ADDRESSES) at least 5 working days prior to the webinar.

Dated: May 2, 2012.
Tracey L. Thompson,
Acting Director, Office of Sustainable Fisheries, National Marine Fisheries Service.

[FR Doc. 2012-10899 Filed 5-4-12; 8:45 am]

BILLING CODE 3510-22-P